DEPARTMENT OF ENERGY

Federal Energy Regulatory Commission

Notice of Effectiveness of Exempt Wholesale Generator and Foreign Utility Company Status

| Docket Nos.
Carpenter Wind Farm LLC | EG24-51-000
Cattlemen Solar Park II LLC | EG24-52-000
Crooked Lake Solar II LLC | EG24-53-000
MS Solar 5, LLC | EG24-54-000
Moonshot Solar LLC | EG24-55-000
PGR 2022 Lessee 5, LLC | EG24-56-000
Ashtrom Renewable Energy LLC | EG24-57-000
Castanea Project, LLC | EG24-58-000
Yellow Pine Solar II, LLC | EG24-59-000
San Juan Solar 1, LLC | EG24-60-000
SJS 1 Storage, LLC | EG24-61-000
Town Hill Energy Storage 1 LLC | EG24-62-000
Escalante Solar, LLC | EG24-63-000
Parc Eolien De Fresnes en saulnois SAS | FC24-2-000

Take notice that during the month of February 2024, the status of the above-captioned entities as Exempt Wholesale Generators or Foreign Utility Companies became effective by operation of the Commission's regulations. 18 CFR 366.7(a) (2023).

Dated: March 4, 2024.
Debbie-Anne A. Reese,
Acting Secretary.

[FR Doc. 2024-05019 Filed 3-8-24; 8:45 am]

BILLING CODE 6717-01-P